COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: December 31, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

7520-01-682-7166—Pen, Ballpoint, Stick, Recycled Water Bottle, Blue, Fine Point

Designated Source of Supply: West Texas Lighthouse for the Blind, San Angelo, TX

Contracting Activity: GSA/FAS ADMIN SVCS ACQUISITION BR 2, NEW YORK, NY

NSN(s)—Product Name(s):

6840-01-367-2914—Detergent, Disinfectant, Water Soluble, .5 oz

Designated Source of Supply: Goodwill Vision Enterprises, Rochester, NY

Contracting Activity: GSA/FSS GREATER SOUTHWEST ACQUISITI, FORT WORTH, TX

NSN(s)—Product Name(s):

7530-00-NIB-0420—Jacket No. 605-913

Designated Source of Supply: CLOVERNOOK CENTER FOR THE BLIND AND VISUALLY IMPAIRED, Cincinnati, OH

Contracting Activity: Government Printing Office, Washington, DC

NSN(s)—Product Name(s):

1560-00-875-6001—Support, Structural

Designated Source of Supply: The Lighthouse for the Blind, Inc. (Seattle Lighthouse), Seattle, WA

Contracting Activity: DLA AVIATION, Richmond, VA

NSN(s)—Product Name(s):

6645-01-491-9838—Clock, Wall, Atomic, Mahogany Octagon, 12′ Diameter

6645-01-491-9839—Clock, Wall, Atomic, Mahogany Octagon, Custom Logo, 12′ Diameter

Designated Source of Supply: Chicago Lighthouse Industries, Chicago, IL

Contracting Activity: GSA/FAS ADMIN SVCS ACQUISITION BR 2, NEW YORK, NY

NSN(s)—Product Name(s):

3990-00-NSH-0081—Sideboard Pallet, 48′ x 48′

Designated Source of Supply: Knox County Association for Remarkable Citizens, Inc., Vincennes, IN

Contracting Activity: W39Z STK REC ACCT-CRANE AAP, CRANE, IN

NSN(s)—Product Name(s):

8970-00-NSH-0026—Meal Kit, Turkey, Detainees, DHS ICE

8970-00-NSH-0027—Meal Kit, Roast Beef, Detainees, DHS ICE

Designated Source of Supply: The Arc of Cumberland and Perry Counties, Carlisle, PA

Contracting Activity: Compliance & Removals, Washington, DC

Michael R. Jurkowski,
Acting Director, Business Operations.

[FR Doc. 2023-26434 Filed 11-30-23; 8:45 am]

BILLING CODE 6353-01-P